DEPARTMENT OF COMMERCE

Economic Development Administration

Notice of Petitions by Firms for Determination of Eligibility To Apply for Trade Adjustment Assistance

AGENCY: Economic Development Administration, Department of Commerce.

ACTION: Notice and Opportunity for Public Comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[4/23/2013 through 5/1/2013]
Firm name | Firm address | Date accepted for investigation | Product(s)
1154 Lill Studios, Inc. | 1511 W. 38th Street, Chicago, IL 60609 | 4/23/2013 | The firm manufactures multiple styles of women's handbags.
Atlas Feed Mills, Inc | 816 Grant Avenue, Breaux Bridge, LA 70517 | 4/23/2013 | Firm manufactures animal feeds for wholesale and retail outlets via bagged or bulk out feeds.
Electronic Sensors, Inc | 2063 S. Edwards Street, Wichita, KS 67213 | 4/29/2013 | Firm manufactures liquid level monitoring systems, including wireless and wired industrial sensors.
Langley Empire Candle, LLC | 2925 Fairfax Trfy, Kansas City, KS 66115 | 4/30/2013 | Firm manufactures candles made of wax and gel produced on a separate production line using different processes.
Duffin Manufacturing Company | 316 Warden Avenue, Elyria, OH 44036 | 4/30/2013 | Firm manufactures turned and machined metal plumbing components, often from brass such as pneumatic fittings.
Duramold Castings, Inc. | 1901 N. Bendix Dr., South Bend, IN 46628 | 4/26/2013 | The firm manufactures metal and mixed material components, such as fittings, tubes, and containment tanks.
GMP Plating, Inc. | 740 Jarvis Drive, Morgan Hill, CA 95037 | 5/1/2013 | Firm provides metal finishing services such as zinc plating, anodizing, chemical film, and passivate QQ P35 C.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: May 1, 2013.
Michael DeVillo,
Eligibility Examiner.

[FR Doc. 2013-10782 Filed 5-6-13; 8:45 am]

BILLING CODE 3510-WH-P